DEPARTMENT OF ENERGY

10 CFR Part 431

[Docket No. EERE-2010-BT-STD-0037]

RIN 1904-AC39

Energy Efficiency Program: Energy Conservation Standards for Automatic Commercial Ice Makers

AGENCY: Office of Energy Efficiency and Renewable Energy, Department of Energy.

ACTION: Notice of public meeting.

SUMMARY: The U.S. Department of Energy (DOE) will hold a public meeting to discuss the energy model used in the engineering analysis supporting its energy conservation standard rulemaking for automatic commercial ice makers. During the meeting, DOE will provide detailed description of the Energy Model and demonstrate its use.

DATES: Meeting: DOE will hold a public meeting on June 19, 2014, from 9:00 a.m. to 4:00 p.m. in Washington, DC. Additionally, DOE plans to conduct the public meeting via webinar. You may attend the public meeting via webinar.

ADDRESSES: The public meeting will be held at the U.S. Department of Energy, Forrestal Building, Room GH-019, 1000 Independence Avenue SW., Washington, DC 20585-0121.

Webinar: Registration information, participant instructions, and information about the capabilities available to webinar participants will be published on DOE's Web site at: http://www1.eere.energy.gov/buildings/appliance_standards/rulemaking.aspx/ruleid/29. Participants are responsible for ensuring their systems are compatible with the webinar software.

Docket: The docket is available for review at http://www.regulations.gov, and will include Federal Register notices, framework document, notice of proposed rulemaking, public meeting attendee lists and transcripts, comments, and other supporting documents/materials throughout the rulemaking process. The regulations.gov Web page contains simple instructions on how to access all documents, including public comments, in the docket. The docket can be accessed by searching for docket number EERE-2010-BT-STD-0037 on the regulations.gov Web site. All documents in the docket are listed in the www.regulations.gov index. However, not all documents listed in the index may be publicly available, such as information that is exempt from public disclosure.

For information on how to review the docket or participate in the public meeting, contact Ms. Brenda Edwards at (202) 586-2945 or by email: Brenda.Edwards@ee.doe.gov.

FOR FURTHER INFORMATION CONTACT: Mr. John Cymbalsky, U.S. Department of Energy, Office of Energy Efficiency and Renewable Energy, Building Technologies Office, EE-5B, 1000 Independence Avenue SW., Washington, DC 20585-0121. Telephone (202) 287-1692. Email: automatic_commercial_ice_makers@ee.doe.gov.

Ms. Sarah Butler, U.S. Department of Energy, Office of the General Counsel, GC-71, 1000 Independence Avenue SW., Washington, DC 20585-0121. Telephone: (202) 586-1777. Email: Sarah.Butler@hq.doe.gov.

For information on how to submit or review public comments and on how to participate in the public meeting, contact Ms. Brenda Edwards, U.S. Department of Energy, Office of Energy Efficiency and Renewable Energy, Building Technologies Office, EE-5B, 1000 Independence Avenue SW., Washington, DC 20585-0121. Telephone (202) 586-2945. Email: Brenda.Edwards@ee.doe.gov.

SUPPLEMENTARY INFORMATION: Title III, Part B ᵃ of the Energy Policy and Conservation Act of 1975 (EPCA or the Act), Public Law 94-163, (42 U.S.C. 6291-6309, as codified) sets forth a variety of provisions designed to improve energy efficiency and established the Energy Conservation Program for Consumer Products Other Than Automobiles, a program covering major household appliances (collectively referred to as “covered products”).ᵇ Part C of title III (42 U.S.C. 6311-6317) establishes an energy conservation program for certain industrial and commercial equipment. EPCA authorizes DOE to establish technologically feasible, economically justified energy conservation standards for covered products or equipment that would be likely to result in significant national energy savings. (42 U.S.C. 6295(o)(2)(B)(i)(I)-(VII))

ᵃ For editorial reasons, upon codification in the U.S. Code, Part B was re-designated Part A.

ᵇ All references to EPCA in this document refer to the statute as amended through the American Energy Manufacturing Technical Corrections Act (AEMTCA), Public Law 112-210 (Dec. 18, 2012).

Section 136(d) of the Energy Policy Act of 2005 (EPACT 2005), Public Law 109-58, amended EPCA to prescribe energy conservation standards for some automatic commercial ice-makers. (42 U.S.C. 6313(d)(1)) The EPACT 2005 amendments (42 U.S.C. 6313(d)(2)) also authorize DOE to issue standards for types of automatic commercial ice makers that are not covered by 42 U.S.C. 6313(d)(1). In addition, not later than January 1, 2015, with respect to the standards at 42 U.S.C. 6313(d)(1), and not later than 5 years after the effective date of any standards issued by DOE under 42 U.S.C. 6313(d)(2), DOE is to issue a final rule to determine whether amending the applicable standards is technologically feasible and economically justified. (42 U.S.C. 6313(d)(3)(A)) To this end, DOE initiated an energy conservation standard rulemaking for automatic commercial ice makers by publishing a notice of proposed meeting and availability of the framework document on November 19, 2010. 75 FR 70852. DOE published a notice of proposed rulemaking proposing energy conservation standards for automatic commercial ice makers on March 17, 2014 (here after referred to as the March 2014 NOPR). 79 FR 14846.

In response to the publication of the March 2014 NOPR, stakeholders continue to submit questions regarding the energy model that DOE used to assess the energy efficiency and performance of automatic commercial ice makers as part of the engineering analysis. (See, for example, Air-Conditioning, Heating, and Refrigeration Institute, No. 93 at p. 5) In order to facilitate an additional review of the model, gather additional feedback and data on the energy model, and to allow for a more thorough explanation of DOE's use of the model in the engineering analysis, DOE is holding this public meeting. During the meeting, DOE expects to explain the details of the model, go through example simulations, describe how the model was used and calibrated as part of the engineering analysis conducted for the March 2014 model, and answer questions about the model from interested parties. At the public meeting, DOE will make presentations and invite discussion on the energy model. All of the feedback and data gathered during the public meeting will be used in consideration of any reanalysis conducted as part of the rulemaking.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: http://www1.eere.energy.gov/buildings/appliance_standards/rulemaking.aspx/ruleid/29.

Any person wishing to bring a laptop computer into the Forrestal Building will be required to obtain a property pass. Visitors should avoid bringing laptops, or allow an extra 45 minutes. Please note that foreign nationals planning to participate in the public meeting are subject to advance security screening procedures. If a foreign national wishes to participate in the public meeting, please inform DOE of this fact as soon as possible by contacting Ms. Brenda Edwards at (202) 586-2945 so that the necessary procedures can be completed.

DOE considers public participation to be a very important part of the process for determining whether to amend energy conservation standards and, if so, in setting those amended standards. DOE actively encourages the participation and interaction of the public during the rulemaking process. Interactions with and among members of the public provide a balanced discussion of the issues to assist DOE in the standards rulemaking process. Accordingly, anyone who wishes to participate in the public meeting or be added to the DOE mailing list to receive future notices and information about this rulemaking should contact Ms. Brenda Edwards at (202) 586-2945, or via email at Brenda.Edwards@ee.doe.gov.

Issued in Washington, DC, on June 9, 2014.
Kathleen B. Hogan,
Deputy Assistant Secretary for Energy Efficiency, Energy Efficiency and Renewable Energy.

[FR Doc. 2014-13848 Filed 6-12-14; 8:45 am]

BILLING CODE 6450-01-P